DEPARTMENT OF THE INTERIOR

Fish and Wildlife Service

50 CFR Part 17

[Docket No. FWS-R8-ES-2012-0008; 45000030114]

RIN 1018-AX42

Endangered and Threatened Wildlife and Plants; Designation of Revised Critical Habitat for the Allium munzii (Munz's onion) and Atriplex coronata var. notatior (San Jacinto Valley Crownscale)

AGENCY: Fish and Wildlife Service, Interior.

ACTION: Proposed rule; correction and reopening of comment period.

SUMMARY: We, the U.S. Fish and Wildlife Service (Service), announce the reopening of the public comment period on the April 17, 2012, proposed revised designations of critical habitat for Allium munzii (Munz's onion) and Atriplex coronata var. notatior (San Jacinto Valley crownscale) under the Endangered Species Act of 1973, as amended (Act). We also announce the availability of a draft economic analysis (DEA) of the proposed designations of critical habitat for A. munzii and A. c. var. notatior and an amended required determinations section of the proposal. We are reopening the comment period to allow all interested parties an opportunity to comment simultaneously on the proposed revised designations, the associated DEA, and the amended required determinations section. Finally, we correct some errors regarding the elevations of habitat necessary for conservation of A. munzii. Comments previously submitted need not be resubmitted, as they will be fully considered in preparation of the final rule.

DATES: We will consider all comments received or postmarked on or before October 11, 2012. Comments submitted electronically using the Federal eRulemaking Portal (see ADDRESSES section, below) must be received by 11:59 p.m. Eastern Time on the closing date.

ADDRESSES: Document availability: You may obtain copies of the proposed rule and the draft economic analysis at the Federal eRulemaking Portal: http://www.regulations.gov at Docket No. FWS-R8-ES-2012-0008 or by mail from the Carlsbad Fish and Wildlife Office (see FOR FURTHER INFORMATION CONTACT section).

Comment submission: You may submit written comments by one of the following methods:

(1) Electronically: Go to the Federal eRulemaking Portal: http://www.regulations.gov. Search for FWS-R8-ES-2012-0008, which is the docket number for this rulemaking.

(2) By Hard Copy: Submit by U.S. mail or hand-delivery to: Public Comments Processing, Attn: FWS-R8-ES-2012-0008; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

FOR FURTHER INFORMATION CONTACT: Jim Bartel, Field Supervisor, U.S. Fish and Wildlife Service, Carlsbad Fish and Wildlife Office, 6010 Hidden Valley Road, Suite 101, Carlsbad, CA 92011, by telephone 760-431-9440, or by facsimile 760-431-9624. Persons who use a telecommunications device for the deaf (TDD) may call the Federal Information Relay Service (FIRS) at 800-877-8339.

SUPPLEMENTARY INFORMATION:

Public Comments

We will accept written comments and information during this reopened comment period on our proposed revised designations of critical habitat for Allium munzii and Atriplex coronata var. notatior that was published in the Federal Register on April 17, 2012 (77 FR 23008), our changes to the primary constituent elements section of the proposed rule, our DEA of the proposed designations, and the amended required determinations provided in this document. We will consider information and recommendations from all interested parties. We are particularly interested in comments concerning:

(1) The reasons why we should or should not designate habitat as “critical habitat” under section 4 of the Act (16 U.S.C. 1531 et seq.), including whether there are threats to the species from human activity, the degree of which can be expected to increase due to the designation, and whether that increase in threat outweighs the benefit of designation such that the designation of critical habitat is not prudent.

(2) Specific information on:

(a) The distribution of Allium munzii and Atriplex coronata var. notatior;

(b) The amount and distribution of Allium munzii and Atriplex coronata var. notatior habitat; and

(c) What areas within the geographical area occupied by the taxa at the time of listing that contain physical or biological features essential to the conservation of the taxa we should include in the designation and why; and

(d) What areas outside the geographical area occupied by the taxa at the time of listing are essential for the conservation of the taxa and why.

(3) Land use designations and current or planned activities in the subject areas and their possible impacts on proposed critical habitat.

(4) Information on the projected and reasonably likely impacts of climate change on Allium munzii and Atriplex coronata var. notatior and proposed critical habitat.

(5) Any foreseeable economic, national security, or other relevant impacts that may result from including any particular area in the final designations. We are particularly interested in any impacts on small entities, and the benefits of including or excluding areas from the proposed designations that are subject to these impacts.

(6) Which specific lands covered by the Western Riverside County Multiple Species Habitat Conservation Plan (Western Riverside County MSHCP) or other permitted HCPs and proposed for designation as critical habitat should be considered for exclusion under section 4(b)(2) of the Act, and, for those specific areas, how benefits of exclusion from the critical habitat designations would outweigh the benefits of inclusion in the designations. We are currently considering excluding, under section 4(b)(2) of the Act, all lands covered by the Western Riverside County MSHCP or other permitted HCPs and Cooperative Agreements as described in the proposed rule (see Exclusions Based on Other Relevant Impacts in the proposed designations of critical habitat published in the Federal Register on April 17, 2012 (77 FR 23008)).

(7) Whether our approach to designating critical habitat could be improved or modified in any way to provide for greater public participation and understanding, or to better accommodate public concerns and comments.

(8) Information on the extent to which the description of economic impacts in the DEA is complete and accurate.

(9) The likelihood of adverse social reactions to the designation of critical habitat, as discussed in the DEA, and how the consequences of such reactions, if likely to occur, would relate to the conservation and regulatory benefits of the proposed critical habitat designations.

If you submitted comments or information on the proposed rule (77 FR 23008) during the initial comment period from April 17, 2012, to June 18, 2012, please do not resubmit them. We have incorporated them into the public record, and we will fully consider them in the preparation of our final determination. Our final determination concerning revised critical habitat will take into consideration all written comments and any additional information we receive during both comment periods. On the basis of public comments, we may, during the development of our final determination, find that areas proposed do not meet the definition of critical habitat, are appropriate for exclusion under section 4(b)(2) of the Act, or are not appropriate for exclusion.

You may submit your comments and materials concerning the proposed rule or DEA by one of the methods listed in the ADDRESSES section. We request that you send comments only by the methods described in the ADDRESSES section.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule and DEA, will be available for public inspection on http://www.regulations.gov at Docket No. FWS-R8-ES-2012-0008, or by appointment, during normal business hours, at the U.S. Fish and Wildlife Service, Carlsbad Fish and Wildlife Office (see FOR FURTHER INFORMATION CONTACT).

Background

This is a notice of availability announcing the reopening of the public comment period on the April 17, 2012, proposed revised designations of critical habitat for Allium munzii and Atriplex coronata var. notatior and the availability of a DEA of the proposed designations of critical habitat for A. munzii and A. c. var. notatior.

Allium munzii

It is our intent to discuss only those topics directly relevant to the designation of critical habitat for Allium munzii in this document. For more information on previous Federal actions concerning A. munzii, refer to the following documents that published in the Federal Register:

• Proposed designation of critical habitat (77 FR 23008; April 17, 2012);

• Proposed listing rule (59 FR 64812; December 15, 1994);

• Final listing rule (63 FR 54975; October 13, 1998);

• The first proposed designation of critical habitat (69 FR 31569; June 4, 2004); and

• The subsequent final critical habitat rule (70 FR 33015; June 7, 2005).

These documents and the 5-year review for A. munzii, signed on June 17, 2009, are available on our Web site at http://www.fws.gov/carlsbad/, on the ECOS Web site for Munz's onion at http://ecos.fws.gov/speciesProfile/profile/speciesProfile.action?spcode=Q2X0, or from the Carlsbad Fish and Wildlife Office (see FOR FURTHER INFORMATION CONTACT).

Previous Federal Actions—Allium munzii

Please see the final listing rule for Allium munzii for a description of previous Federal actions through October 13, 1998 (63 FR 54975). At the time of listing, we concluded that designation of critical habitat for A. munzii was not prudent because such designation would not benefit the species. On June 4, 2004, we published a proposed rule to designate 227 ac (92 ha) of critical habitat for A. munzii on Federal land (Cleveland National Forest) in western Riverside County, California (69 FR 31569). On June 7, 2005, we published a final rule designating 176 ac (71 ha) of land as critical habitat for A. munzii (70 FR 33015).

On March 22, 2006, we announced the initiation of the 5-year review for Allium munzii and requested information from the public (71 FR 14538). The A. munzii 5-year review was completed on June 17, 2009, and recommended no change to the endangered status of A. munzii.

On October 2, 2008, a complaint was filed against the Department of the Interior (DOI) and the Service by the Center for Biological Diversity (CBD v. Kempthorne, No. 08-CV-01348 (S.D. Cal.)) challenging our final critical habitat designation for Allium munzii. In an order dated March 24, 2009, the U.S. District Court for the Central District of California, Eastern Division, adopted a Stipulated Settlement Agreement that was entered into by all parties. The agreement stipulates that the Service will reconsider critical habitat designations for both A. munzii and Atriplex coronata var. notatior and shall submit to the Federal Register proposed revised critical habitat determinations for both plants by October 7, 2011. An extension for the completion of the new proposed determinations was granted on September 14, 2011; the new submission date to the Federal Register was April 6, 2012. Until the effective date of the final determinations (to be submitted to the Federal Register on or before April 6, 2013), the existing final critical habitat designations for A. munzii and A. c. var. notatior remain in place.

On April 17, 2012, we published a proposed rule to designate critical habitat for the Allium munzii (77 FR 23008). We proposed to designate approximately 889 acres (ac) (360 hectares (ha)) in 5 units containing 13 subunits located in Riverside County, California, as critical habitat. A legal notice announcing the publication of the proposed rule in the Federal Register and opening of the 60-day public comment period was prepared by the Service and published in the The Press-Enterprise on April 27, 2012. We will submit for publication in the Federal Register a combined final critical habitat rule for Allium munzii and Atriplex coronata var. notatior on or before April 6, 2013.

Atriplex coronata var. notatior

It is our intent to discuss only those topics directly relevant to the designation of critical habitat for Atriplex coronata var. notatior in this document. For more information on previous Federal actions concerning A. c. var. notatior, refer to the following documents that published in the Federal Register:

• Proposed designation of critical habitat (77 FR 23008; April 17, 2012);

• Proposed listing rule (59 FR 64812; December 15, 1994);

• Final listing rule (63 FR 54975; October 13, 1998);

• The first proposed designation of critical habitat (69 FR 59844; October 6, 2004); and

• The subsequent final critical habitat rule (70 FR 59952; October 13, 2005).

These documents and the 5-year review for A. coronata var. notatior, completed on March 31, 2008, are available on our Web site at http://www.fws.gov/carlsbad/, on our ECOS Web page for San Jacinto Valley crownscale at http://ecos.fws.gov/speciesProfile/profile/speciesProfile.action?spcode=Q2ZR, or from the Carlsbad Fish and Wildlife Office (see FOR FURTHER INFORMATION CONTACT).

Previous Federal Actions—Atriplex coronata var. notatior

Please see the final listing rule for Atriplex coronata var. notatior for a description of previous Federal actions through October 13, 1998 (63 FR 54975), including proposed critical habitat in 1994 (59 FR 64812; December 15, 1994). At the time of the final listing rule in 1998, the Service withdrew the proposed critical habitat designation based on the taxon's continued decline and determined that designation of critical habitat was not prudent, indicating that no benefit over that provided by listing would result from such designation (63 FR 54991; October 13, 1998).

On October 6, 2004, we published a proposed rule to designate critical habitat for Atriplex coronata var. notatior and identified 15,232 ac (6,164 ha) of habitat that met the definition of critical habitat (69 FR 59844). However, we concluded in the 2004 proposed rule under section 4(b)(2) of the Act that the benefits of excluding lands covered by the Western Riverside County MSHCP outweighed the benefits of including them as critical habitat, and, consequently, no lands were proposed for designation as critical habitat in the proposed rule. On October 13, 2005, we published a final critical habitat determination for A. c. var. notatior (70 FR 59952); there was no change from the proposed rule. We concluded that all 15,232 ac (6,136 ha) of habitat meeting the definition of critical habitat were located either within our estimate of the areas to be conserved and managed by the approved Western Riverside County MSHCP on existing Public/Quasi-Public Lands, or within areas where the MSHCP would ensure that future projects would not adversely alter essential hydrological processes, and all areas were excluded from critical habitat under section 4(b)(2) of the Act.

On March 22, 2006, we announced the initiation of the 5-year review for Atriplex coronata var. notatior and requested information from the public (71 FR 14538). The 5-year review was completed on March 31, 2008, and recommended no change to the endangered status of A. c. var. notatior.

On October 2, 2008, a complaint was filed against the DOI and the Service by the Center for Biological Diversity (CBD v. Kempthorne, No. 08-CV-01348 (S.D. Cal.)) challenging our final critical habitat determinations for Allium munzii and Atriplex coronata var. notatior (see Previous Federal Actions—Allium Munzii section above for a detailed account of this lawsuit and settlement agreement).

On April 17, 2012, we published a proposed rule to designate critical habitat for the Atriplex coronata var. notatior (77 FR 23008). We proposed to designate approximately 8,020 ac (3,246 ha) in 3 units located in Riverside County, California, as critical habitat. A legal notice announcing the publication of the proposed rule in the Federal Register and opening of the 60-day public comment period was prepared by the Service and published in The Press-Enterprise on April 27, 2012. We will submit for publication in the Federal Register a combined final critical habitat rule for Atriplex coronata var. notatior and Allium munzii on or before April 6, 2013.

Critical Habitat

Section 3 of the Act defines critical habitat as the specific areas within the geographical area occupied by a species, at the time it is listed in accordance with the Act, on which are found those physical or biological features essential to the conservation of the species and that may require special management considerations or protection, and specific areas outside the geographical area occupied by a species at the time it is listed, upon a determination that such areas are essential for the conservation of the species. If the proposed rule is made final, section 7 of the Act will prohibit destruction or adverse modification (collectively referred to as “adverse modification”) of the designated critical habitat by any activity funded, authorized, or carried out by any Federal agency. Federal agencies proposing actions that may affect critical habitat must consult with us on the effects of their proposed actions, under section 7(a)(2) of the Act.

We are revising the proposed designation of revised critical habitat for Allium munzii to clarify primary constituent elements (PCEs) (2)(i)(b) and (2)(ii) regarding elevations necessary for conservation of A. munzii. We stated in the proposed rule that A. munzii is found in Riverside County generally between the elevations of 1,200 to 2,700 ft (366 to 823 m) above mean sea level. Allium munzii is also found in Riverside County (Unit 3: Elsinore Peak) at an elevation ranging from 3,200 to 3,500 feet (ft) (975 to 1,067 meters (m)). Therefore, PCE (2)(i)(b) should read, “Generally between the elevations of 1,200 ft to 3,500 ft (366 to 1,067 m), above mean sea level,” and PCE (2)(ii) should read, “Outcrops of igneous rocks (pyroxenite) on rocky-sandy loam or clay soils within Riversidean sage scrub, generally between the elevations of 1,200 to 3,500 ft (366 to 1,067 m), above mean sea level.”

Consideration of Impacts Under Section 4(b)(2) of the Act

Section 4(b)(2) of the Act requires that we designate or revise critical habitat based upon the best scientific data available, after taking into consideration the economic impact, impact on national security, or any other relevant impact of specifying any particular area as critical habitat. We may exclude an area from critical habitat if we determine that the benefits of excluding the area outweigh the benefits of including the area as critical habitat, provided such exclusion will not result in the extinction of the species.

When considering the benefits of inclusion for an area, we consider the additional regulatory benefits that area would receive from the protection from adverse modification as a result of actions with a Federal nexus (activities conducted, funded, permitted, or authorized by Federal agencies), the educational benefits of mapping areas containing essential features that aid in the recovery of the listed species, and any benefits that may result from designation due to State or Federal laws that may apply to critical habitat. In the case of Allium munzii and Atriplex coronata var. notatior, the benefits of critical habitat include public awareness of the presence of these taxa and the importance of habitat protection, and, where a Federal nexus exists, increased habitat protection for these taxa due to protection from adverse modification of critical habitat. In practice, situations with a Federal nexus exist primarily on Federal lands or for projects undertaken by Federal agencies.

When considering the benefits of exclusion, we consider, among other things, whether exclusion of a specific area is likely to result in conservation; the continuation, strengthening, or encouragement of partnerships; or implementation of a management plan.

The final decision on whether to exclude any areas will be based on the best scientific data available at the time of the final designations, including information obtained during the comment period and information about the economic impact of designation. Accordingly, we have prepared a draft economic analysis (DEA) concerning the proposed critical habitat designations, which is available for review and comment (see ADDRESSES section).

Draft Economic Analysis

The purpose of the DEA is to identify and analyze the potential economic impacts associated with the proposed critical habitat designations for Allium munzii and Atriplex coronata var. notatior. The DEA separates conservation measures into two distinct categories according to “without critical habitat” and “with critical habitat” scenarios. The “without critical habitat” scenario represents the baseline for the analysis, considering protections afforded to A. munzii and A. c. var. notatior (e.g., under the Federal listing and other Federal, State, and local regulations). The “with critical habitat” scenario describes the incremental impacts specifically due to designation of critical habitat for the two taxa. In other words, these incremental conservation measures and associated economic impacts would not occur but for the designation. Conservation measures implemented under the baseline (without critical habitat) scenario are described qualitatively within the DEA, but economic impacts associated with these measures are not quantified. Economic impacts are only quantified for conservation measures implemented specifically due to the designation of critical habitat (i.e., incremental impacts). For a further description of the methodology of the analysis, see Chapter 2, Framework for the Analysis, of the DEA.

The DEA provides estimated costs of the foreseeable potential economic impacts of the proposed critical habitat designations for Allium munzii and Atriplex coronata var. notatior over the next 20 years, which was determined to be the appropriate period for analysis because limited planning information is available for most activities to forecast activity levels for projects beyond a 20-year timeframe. It identifies potential incremental costs as a result of the proposed critical habitat designations; these are those costs attributed to critical habitat over and above those baseline costs attributed to listing.

The DEA considers quantification of economic impacts of Allium munzii conservation efforts associated with the following categories of activity: (1) Development; (2) agricultural operations; (3) transportation; (4) fire management; (5) mining (clay); and (6) recreational activities (Industrial Economics, Incorporated [IEC] 2012, p. 1-6).

The DEA considers quantification of economic impacts of Atriplex coronata var. notatior conservation efforts associated with the following categories of activity: (1) Development; (2) agricultural operations; (3) transportation; (4) fire management; (5) flood control; and (6) utilities (IEC 2012, p. 1-6).

Because of the substantial baseline protections already afforded Allium munzii and Atriplex coronata var. notatior under the Act, and the conservation plans, partnerships, or agreements developed and being implemented as a result of the listing of the taxa, the incremental effects analysis in the DEA focuses on quantifying the following categories: (1) Activities that the Service considers threats to Allium munzii or its habitat that are not addressed by existing conservation plans (i.e., clay mining), (2) activities occurring within A. munzii proposed critical habitat Unit 3 (Elsinore Peak), an area not managed under an existing conservation plan, and (3) administrative costs associated with future section 7 consultations for both taxa (IEC 2012, p. 4-1).

The DEA indicates that the total cost that may result from the proposed designation of critical habitat for both plants is $166,000 in present-value terms, assuming a seven percent discount rate. The total cost that may result from the proposed designation for Allium munzii is $92,000 over the 20-year period of the analysis in present-value terms, assuming a seven percent discount rate. In areas not currently being considered for exclusion from A. munzii critical habitat (Unit 3), incremental costs are estimated at $25,000 in present-value terms, assuming a seven percent discount rate. In areas currently being considered for exclusion from A. munzii critical habitat, incremental costs are estimated at $67,000 (IEC 2012, p. 4-2).

The total cost that may result from the proposed designation for Atriplex coronata var. notatior is $74,000 over the 20-year period of the analysis, in present-value terms assuming a seven percent discount rate. The entire proposed critical habitat for A. c. var. notatior is presently being considered for exclusion from the final designation. All of these incremental impacts consist entirely of administrative costs, including reinitiations of programmatic consultations and additional effort of addressing adverse modification as part of future section 7 consultations for activities that may affect the two taxa or their habitat (IEC 2012, p. 4-2).

As we stated earlier, we are soliciting data and comments from the public on the DEA, as well as all aspects of the proposed rule and our amended required determinations. We may revise the proposed rule to incorporate or address information we receive during the public comment period. In particular, we may exclude an area from critical habitat if we determine that the benefits of excluding the area outweigh the benefits of including the area, provided the exclusion will not result in the extinction of Allium munzii or Atriplex coronata var. notatior.

Required Determinations—Amended

In our April 17, 2012, proposed rule (77 FR 23008), we indicated that we would defer our determination of compliance with several statutes and executive orders until the information concerning potential economic impacts of the designations and potential effects on landowners and stakeholders became available in the DEA. We have now made use of the DEA data to make these determinations. In this document, we affirm the information in our proposed rule concerning Executive Order (E.O.) 12630 (Takings), E.O. 13132 (Federalism), E.O. 12988 (Civil Justice Reform), E.O. 13211 (Energy, Supply, Distribution, and Use), the Unfunded Mandates Reform Act (2 U.S.C. 1501 et seq.), the Paperwork Reduction Act of 1995 (44 U.S.C. 3501 et seq.), the National Environmental Policy Act (42 U.S.C. 4321 et seq.), and the President's memorandum of April 29, 1994, “Government-to-Government Relations with Native American Tribal Governments” (59 FR 22951). We also clarify below the information concerning E.O. 12866 and E.O. 13563. However, based on the DEA data, we are amending our required determination concerning the Regulatory Flexibility Act (5 U.S.C. 601 et seq.).

Regulatory Planning and Review (Executive Orders 12866 and 13563)

Executive Order 12866 provides that the Office of Information and Regulatory Affairs (OIRA) in the Office of Management and Budget will review all significant rules. The OIRA has determined that this rule is not significant. E.O. 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (5 U.S.C. 601 et seq.)

Under the Regulatory Flexibility Act (RFA; 5 U.S.C. 601 et seq.), as amended by the Small Business Regulatory Enforcement Fairness Act of 1996 (SBREFA; 5 U.S.C. 801 et seq.), whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. The SBREFA amended the RFA to require Federal agencies to provide a certification statement of the factual basis for certifying that the rule will not have a significant economic impact on a substantial number of small entities. Based on our DEA of the proposed designations, we provide our analysis for determining whether the proposed rule would result in a significant economic impact on a substantial number of small entities. Based on comments we receive, we may revise this determination as part of our final rulemaking.

According to the Small Business Administration, small entities include small organizations such as independent nonprofit organizations; small governmental jurisdictions, including school boards and city and town governments that serve fewer than 50,000 residents; and small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we considered the types of activities that might trigger regulatory impacts under these designations as well as types of project modifications that may result. In general, the term “significant economic impact” is meant to apply to a typical small business firm's business operations.

To determine if the proposed revised designations of critical habitat for Allium munzii and Atriplex coronata var. notatior would affect a substantial number of small entities, we considered the number of small entities affected within particular types of economic activities, such as (1) Development, (2) agricultural operations, (3) transportation, (4) fire management, (5) mining (clay), (6) recreational activities, (7) flood control, and (8) utilities. In order to determine whether it is appropriate for our agency to certify that this proposed rule would not have a significant economic impact on a substantial number of small entities, we considered each industry or category individually. In estimating the numbers of small entities potentially affected, we also considered whether their activities have any Federal involvement. Critical habitat designation will not affect activities that do not have any Federal involvement; designation of critical habitat only affects activities conducted, funded, permitted, or authorized by Federal agencies. In areas where the A. munzii and A. c. var. notatior are present, Federal agencies already are required to consult with us under section 7 of the Act on activities they fund, permit, or implement that may affect the taxa. If we finalize these proposed revised critical habitat designations, consultations to avoid the destruction or adverse modification of critical habitat would be incorporated into the existing consultation process.

In the DEA, we evaluated the potential economic effects on small entities resulting from implementation of conservation actions related to the proposed revised designations of critical habitat for Allium munzii and Atriplex coronata var. notatior. The Western Riverside County MSHCP and the Lake Mathews MSHCP were evaluated for this analysis. For the Western Riverside MSHCP, seven small jurisdictions were identified (IEC 2012, p. A-7). However, applying a conservative assumption that all of the third-party costs would be borne by a single small entity, the one-time impact of reinitiation of the Western Riverside County MSHCP was 0.2 percent of reported annual revenues (IEC 2012, p. A-8). For the Lake Mathews MSHCP with only one small entity identified, a similar assumption indicated that a single small entity would bear a one-time impact of 0.06 percent of reported annual revenues for reinitiation of this conservation plan (IEC 2012, p. A-8). Please refer to the DEA for a more detailed discussion of our evaluation of potential economic impacts.

In summary, we have considered whether the proposed revised designations would result in a significant economic impact on a substantial number of small entities. Information for this analysis was gathered from the Small Business Administration, stakeholders, and our files. We have identified eight small entities that may be impacted by the proposed critical habitat designation. For the above reasons and based on currently available information, we certify that, if promulgated, the proposed revised critical habitat designations would not have a significant economic impact on a substantial number of small business entities. Therefore, an initial regulatory flexibility analysis is not required.

Authors

The primary authors of this notice are the staff members of the Carlsbad Fish and Wildlife Office, Pacific Southwest Region, U.S. Fish and Wildlife Service.

Authority

The authority for this action is the Endangered Species Act of 1973, as amended (16 U.S.C. 1531 et seq.).

List of Subjects in 50 CFR Part 17

Endangered and threatened species, Exports, Imports, Reporting and recordkeeping requirements, Transportation.

Proposed Regulation Promulgation

Accordingly, we propose to further amend part 17, subchapter B of chapter I, title 50 of the Code of Federal Regulations, as proposed to be amended at 77 FR 23008, April 17, 2012, as follows:

PART 17—ENDANGERED AND THREATENED WILDLIFE AND PLANTS

1. The authority citation for part 17 continues to read as follows:

Authority: 16 U.S.C. 1361-1407; 16 U.S.C. 1531-1544; 16 U.S.C. 4201-4245; Pub. L. 99-625, 100 Stat. 3500; unless otherwise noted.

2. Amend § 17.96(a) by revising the proposed entry for “Allium munzii (Munz's onion)” in paragraphs (2)(i)(B) and (ii) to read as follows:

§ 17.96 Critical habitat—plants.

(a) Flowering plants.

* * * * *

Family Alliaceae: Allium munzii (Munz's onion)

* * * * *

(2) * * *

(i) * * *

(B) Generally between the elevations of 1,200 to 3,500 ft (366 to 1,067 m) above mean sea level;

* * * * *

(ii) Outcrops of igneous rocks (pyroxenite) on rocky-sandy loam or clay soils within Riversidean sage scrub, generally between the elevations of 1,200 to 3,500 ft (366 to 1,067 m) above mean sea level.

* * * * *

Dated: August 28, 2012.
Michael J. Bean,
Acting Principal Deputy Assistant Secretary for Fish and Wildlife and Parks.

[FR Doc. 2012-22033 Filed 9-10-12; 8:45 am]

BILLING CODE 4310-55-P